DEPARTMENT OF THE INTERIOR

National Park Service

[NPS-WASO-CR-10734; 2200-3210-665]

60-Day Notice of Intention To Request Clearance of Collection of Information; Opportunity for Public Comment

AGENCY: National Park Service, Interior.

ACTION: Notice; request for comments.

SUMMARY: We (National Park Service) will ask the Office of Management and Budget (OMB) to approve the information collection (IC) described below. To comply with the Paperwork Reduction Act of 1995 and as a part of our continuing efforts to reduce paperwork and respondent burden, we invite the general public and other Federal agencies to comment on this IC. We may not conduct or sponsor and a person is not required to respond to a collection unless it displays a currently valid OMB control number.

DATES: Please submit your comment on or before September 28, 2012.

ADDRESSES: Please send your comments on the proposed information collection to Madonna Baucum, Information Collection Clearance Officer, National Park Service, 1849 C Street NW., Mailstop 2605 (Rm. 1242), Washington, DC 20240 (mail); via fax at 202/371-6741, or via email to madonna_baucum@nps.gov. Please reference Information Collection “1024-New, National Historic Landmark Nomination Process” in the subject line.

FOR FURTHER INFORMATION CONTACT: Patricia Henry, Historian, National Historic Landmark Program, 1849 C Street NW., Washington, DC 20240. You may send an email to patty_henry@nps.gov or contact her by telephone at (202/354-2216) or via fax at (202/371-2229).

SUPPLEMENTARY INFORMATION:

I. Abstract

The purpose of this information collection is to assist the National Park Service (NPS) in managing the National Historic Landmarks (NHL) program. The information requested will allow the NPS to evaluate properties nominated as NHLs and provide documentation for the proposed designation.

NHLs are nationally significant historic places designated by the Secretary of the Interior because they possess exceptional value or quality in illustrating or interpreting the heritage of the United States and they have significance to all citizens of our nation. The Historic Sites Act of 1935 charged the Department of the Interior with the responsibility for designating nationally significant historic buildings, structures, sites, and objects and promoting their preservation for the inspiration and benefit of the people of the United States. The NPS administers the NHL Program for the Secretary of the Interior.

All NHLs are also listed in the National Register of Historic Places, the official Federal list of districts, sites, buildings, structures, and objects significant in American history, architecture, archeology, engineering, and culture. Thus, NHLs must also be considered in the planning for Federal or Federally assisted projects, and NHL designation provides for eligibility for Federal rehabilitation tax incentives. Designation as a NHL provides formal recognition of a property's national significance in history, architecture, engineering, or archeology based on national standards. The designation places no obligations on private property owners, and there are no restrictions on the use, treatment, transfer, or disposition of private property.

Nominations for the designation of NHLs come from private individuals and organizations, local governments, State Historic Preservation Officers, Federal Preservation Officers for properties owned or controlled by the United States Government, and Tribal Historic Preservation Officers and American Indian tribes for properties on tribal lands. Regulations at 36 CFR 65 establish the criteria and guidelines for designating National Historic Landmarks. The request to OMB to approve this existing information collection in use without approval will include one form, the National Historic Landmark Nomination Form, which is used to nominate properties and provide documentation for the proposed designation.

Nomination forms will be submitted to the National Historic Landmarks staff in the Washington, DC and regional offices. These offices determine if the property may or may not meet the NHL criteria or if more information is needed to make a determination. Once a nomination is considered complete by the NPS staff, it will be peer reviewed by leading scholars through a blind peer review process. The Landmarks Committee of the National Park System Advisory Board will review all nominations prior to referring those properties to the Advisory Board that they believe meet the NHL criteria. The Advisory Board will review the properties and the Landmarks Committee's recommendations to make their own recommendations to the Secretary of the Interior who has the ultimate authority to designate National Historic Landmarks.

II. Data

OMB Control Number: 1024-New.

Title: National Historic Landmark Nomination Process.

Form(s): National Historic Landmark Nomination Form.

Type of Request: Existing collection in use without approval.

Automated Data Collection: No.

Will the Information Be Collected Electronically? Yes.

Description of Respondents: Private individuals; state, tribal, and local governments; businesses; educational institutions; and nonprofit organizations.

Respondent's Obligation: Required to obtain or retain benefits.

Frequency of Collection: On Occasion.

Description of Need: The purpose of this information collection is to provide documentation in order to consider properties for designation as National Historic Landmarks.

III. Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: July 24, 2012.
Madonna L. Baucum,
Information Collection Clearance Officer, National Park Service.

[FR Doc. 2012-18476 Filed 7-27-12; 8:45 am]

BILLING CODE 4312-52-P